DEPARTMENT OF JUSTICE

Antitrust Division

Notice Pursuant to the National Cooperative Research and Production Act of 1993—Telemanagement Forum

Notice is hereby given that, on February 16, 2006, pursuant to Section 6(a) of the National Cooperative Research and Production Act of 1993, 15 U.S.C. 4301 et seq. (“the Act”), Telemanagement Forum (“the Forum”) filed written notifications simultaneously with the Attorney General and the Federal Trade Commission disclosing changes in its membership. The notifications were filed for the purpose of extending the Act's provisions limiting the recovery of antitrust plaintiffs to actual damages under specified circumstances. Specifically, A.S.T.R.I.D. SA/NV, Brussels, Belgium; Aceway Telecom Technology Co., LTD, Beijing, People's Republic of China; al-ELM information security, Riyadh, Saudi Arabia; B2 Bredband AB, Stockholm, Sweden; BearingPoint, Unterpremstatten, Austria; BoldTech Systems Inc., Denver, CO: Bonus Technology, Inc., Newark, NJ; BroadHop, Inc., Denver, CO; CellC, Johannesburg, Gauteng, South Africa; CIML Inc., Montreal, Quebec, Canada; Clochase Inc., Toronto, Ontario, Canada; DAX Technologies, Matawan, NJ; DiGi Telecommunications Sdn Bhd, Shad Alam, Selangor, Malaysia; dnp services, Frankfurt, Hesse, Germany; ERM, Campinas, Sao Paulo, Brazil; Errigal Telecom Solutions, San Francisco, CA; Fastwire, Singapore, Singapore; Gaia bsm, Herzeliya, Israel; Graftor Media Production Oy, Hameenlinna, Hame, Finland; GuangZhou Sunrise Electronics Development Co., Ltd., Guangzhou, Guangdong, People's Republic of China; issy AG, Rimpar, Bavaria, Germany; Infogix, Inc., Naperville, IL; Information-control LLC, Gaithersburg, MD; InterAcct Solutions, Sydney, New South Wales, Australia; InterSystems, Eton, Windsor, United Kingdom; Intracom S.A., Attica, Greece; Jamcracker, Inc., Santa Clara, CA; Jernbaneverket/ITN, Hamar, Norway; Jordan Mobile Telephone Services-Fastlink, Amman, Jordan; Kvazar-Micro Corporation BV, Amsterdam, Netherlands; Lounet Oy, Turku, Finland; Mangrove Systems, Inc., Wallingford, CT; MaxProcess, Rio de Janeiro, Brazil; MEGA International, Paris, France; Millennium Information Technologies Ltd., Kaduwela, Western, Sri Lanka; Mobile Telecommunications Company, Safat, Kuwait; Mobile Telecommunications Company Group, Safat, Kuwait; Monfox LLC, Alpharetta, GA; MTC Touch, Beirut, Lebanon; MTC-Vodafone (Bahrain), Al Seef District, Manama, Bahrain; MTN Group, Randburg, Gauteng, South Africa; Netsure Telecom Ltd., Dublin 12, Leinster, Ireland; Network Support Services (NSS), Rivonia, Gauteng, South Africa; Nexagent Ltd., Reading, Berkshire, United Kingdom; Open Cloud, Wellington, New Zealand; OperTune Ltd., Oxford, Oxfordshire, United Kingdom; OPtare Solutions, Vigo, Pontevedra, Spain; Penninck & Landtheer, Capelle A/D Ijssel, Zuid Holland, Netherlands; PT Wireless Indonesia, Jakarta, Indonesia; Radom, Tel Aviv, Israel; Redknee Inc., Mississauga, Ontario, Canada; RGAE, Longueuil, Quebec, Canada; RPG Grupo Consultores C.A., Caracas, Miranda, Venezuela; Ryder Systems, Blackburn, Lancashire, United Kingdom; Sigma Systems, Toronto, Ontario, Canada; Sleepycat Software, Inc., Lincoln, MA; Softline, Kiev, Ukraine; Starhub Ltd., Singapore, Singapore; STC Komset, Moscow, Russia; TCB Ventures Ltd., Bristol, United Kingdom; Technology Optimisation Consultants Ltd., Bishopstown, Cork, Ireland; Telefonica Empresas S/A, Sao Paulo, Brazil; Telefonica Moviles Soluciones y Aplicaciones S.A., Santiago, Metropolitana, Chile; Telekom Serbia, Belgrade, Serbia, Serbia and Montenegro; The Westport Group, Alpharetta, GA; Versant Corporation, Fremont, CA; Vodafone D2, Duesselfdorf, Nordrhein-Westerfalen, Germany; Vodafone Sweden AB, Karlskrona, Sweden; Vodafone UK Ltd., Newbury, Berkshire, United Kingdom; Voylence, Richardson, TX; Wanadoo UK, St. Albans, London, United Kingdom; and Zeugma Systems, Richmond, British Columbia, Canada, have been added as parties to this venture.

Also, 7th Catalyst, Toronto, Ontario, Canada; ASPOne, Chicago, IL; Atreus Systems, Ottawa, Ontario, Canada; Axon Solutions Ltd., Edham, Surrey, United Kingdom; Axxessit ASA, Bergen, Norway; Corvis, Columbia, MD; Creawor Beijing Technique Center, Zhuhai, Guangdong, People's Republic of China; Datanomic Limited, Cambridge, United Kingdom; Diatem Networks, Ottawa, Ontario, Canada; DST Innovis, El Dorado Hills, CA; Ernst & Young Audit Sp Z.o.o., Warsaw, Poland; Evans Griffiths & Hart, Inc., Lexington, MA; Evolving Systems, Englewood, CO; ICE systems d.o.o., Slatina, Croatia; InteGreaT B.V., Bergen opZoom, Netherlands; Inteligentis Limited, Maidenhead, Berkshire, United Kingdom; Katz & Company, Imperial, PA; MCI, Colorado Springs, CO; MDAPCE, Colorado Springs, CO; NetHarmonix, Overland Park, KS; OJ & Builders Corp., Miami, FL; Persistent Solutions, Jonkoping, Sweden; Pivetal, Southampton, United Kingdom; Process Dynamics, Altrincham, Cheshire, United Kingdom; Q6 Ltd., Dorkins, Surrey, United Kingdom; QoSmetrics, Massy, France; Raptor Networks Technologies, Santa Ana, CA; Royah Company, Jeddah, Saudi Arabia; S.E.S.A. International, Eschborn, Germany; Service Management Alliance, Bellevue, WA; The Defense Communication Services Agency, Corsham, Wiltshire, United Kingdom; TICO GmbH, Weininger, Switzerland; VoluBill, 38334 St. Ismier, Cedwex, France; West Ridge Networks, Littleton, MA; and Zvolve Systems, Inc., Duluth, GA have withdrawn as parties to this venture.

The following members have changed their names: SBC Communications Inc. has changed its name to AT&T Inc., San Antonio, TX; Computer Associates has changed its name to CA, Islandia, NY; Incatel has changed its name to Comptel, Sandvika, Norway; Ericsson AB has changed its name to Ericsson, Stockholm, Sweden; ADC Software Systems has changed its name to Intec Telecom Systems PLC, Working, Surrey, United Kingdom; Mariza Dungan has changed its name to Jamcracker, Inc., Santa Clara, CA; kvazar-micro has changed its name to Kvazar-Micro Corporation BV, Amsterdam, Netherlands; Matav Hungarian Telecom Company Ltd. has changed its name to Magyar Telekom, Budapest, Hungary; Mega has changed its name to MEGA International, Paris, France; Mobile Telecommunications Company Kuwait has changed its name to Mobile Telecommunications Company Group, Safat, Kuwait; mtctouch has changes its name to MTC Touch, Beirut, Lebanon; MTN RSA has changed its name to MTN Group, Sandton, Johannesburg, South Africa; MTN South Africa has changed its name to MTN Group, Sandton, Johannesburg, South Africa; NSS has changed its name to Network Support Services (NSS), Rivonia, Gauteng, South Africa; Nortel Networks has changed its name to Nortel, Brampton, Ontario, Canada; Teleca OSS AB has changed its name to Teleca Sweden South, Stockholm, Sweden; Telekom Malaysia Berhad (Co. Registration: 128740-P) has changed its name to Telekom Malaysia Berhad, Kuala Lumpur, Malaysia; Telecom Serbia has changed its name to Telekom Serbia, Belgrade, Serbia; Popkin Software & Systems has changed its name to Telelogic, Oxford, United Kingdom; and 4DH Software Inc. has changed its name to Tigerstripe, Inc., Seattle, WA.

The following members have changed their addresses: BearingPoint has changed its address to Unterpremstatten, Austria; Comarch S.A. has changed its address to Krakow, Poland; DiGi Telecommunications Sdn Bhd has changed its address to Shah Alam, Selangor, Malaysia; Digital Fairway Corporation has changed its address to Toronto, Ontario, Canada; E*Tezeract, Inc., has changed its address to Murrieta, CA; Evolving Systems has changed its address to Englewood, CO; GlobeTom has changed its address to Highveld, Centurion, South Africa; InterAcct Solutions has changed its address to Sydney, New South Wales, Australia; Max Process has changed its address to Rio de Janeiro, Brazil; MEGA International has changed its address to Paris, France; MTC Touch has changed its address to Beirut, Lebanon; NEC Corporation has changed its address to Tokyo, Japan; PSI AG has changed its address to Dusseldorf, Germany; Qwest Communications International Inc. has changed its address to Denver, CO; Smartrek has changed its address to Wabern, Switzerland; SMI Telco Ltd. has changed its address to Fareham, Hampshire, United Kingdom; TDC has changed its address to Tranbjerg J., Denmark; TierOne OSS Technologies Inc. has changed its address to Mississauga, Ontario, Canada; and Visionael Corporation has changed its address to Palo Alto, CA.

No other changes have been made in either the membership or planned activity of the group research project. Membership in this group research project remains open, and the Forum intends to file additional written notifications disclosing all changes in membership.

On October 31, 1998, the Forum filed its original notification pursuant to Section 6(a) of the Act. The Department of Justice published a notice in the Federal Register pursuant to Section 6(b) of the Act on December 8, 1988 (53 FR 49615).

The last notification was filed with the Department on Septemer 8, 2005. A notice was published in the Federal Register pursuant to Section 6(b) of the Act on October 17, 2005 (70 FR 60370).

Dorothy B. Fountain,
Deputy Director of Operations, Antitrust Division.

[FR Doc. 06-4946 Filed 5-30-06; 8:45 am]

BILLING CODE 4410-11-M